DEPARTMENT OF HEALTH AND HUMAN SERVICES

Centers for Disease Control and Prevention

[60Day-17-17ABU; Docket No. CDC-2017-0037]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed data collection project titled “Emergency Zika Package: Zika Reproductive Health Call-Back Survey ZRHCS), 2017.”

DATES: Written comments must be received on or before June 26, 2017.

ADDRESSES: You may submit comments, identified by Docket No. CDC-2017-0037 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Zika Reproductive Health Call-Back Survey (ZRHCS), 2017—New—National Center for Chronic Disease Prevention and Health Promotion (NCCDPHP), Centers for Disease Control and Prevention (CDC).

Background and Brief Description

In May 2015, the World Health Organization reported the first local mosquito born transmission of Zika virus in the Western Hemisphere, with autochthonous cases identified in Brazil. In response to the Zika virus outbreak, and evidence that Zika virus infection during pregnancy is a cause microcephaly and other adverse pregnancy and infant outcomes, CDC's Emergency Operations Center has continued to work at the highest level of activation since February 8, 2016. To date, local transmission has been identified in at least 50 countries or territories in the Americas; within the United States, widespread mosquito born transmission has been documented in the territories of Puerto Rico and the US Virgin Islands, and more localized transmission has been observed in Florida and Texas. In addition in the continental United States, there has been a large number of travel-related cases with infection occurring through mosquito born and sexual transmission.

Given the adverse pregnancy and birth outcomes associated with Zika virus infection during pregnancy, increasing access to effective contraception is a key countermeasure for preventing unintended pregnancies that might otherwise be affected by Zika. In addition, even in the absence of disease outbreaks that can lead to negative pregnancy and birth outcomes, access to contraception is needed to help prevent the 45% of pregnancies in the United States that are unintended. Given that the proportion of pregnancies that are unintended varies widely across states, it is important to identify populations with high unmet need for contraception to implement targeted strategies for increasing access to and availability of effective contraception. Additionally, it is important for women who are at risk of becoming pregnant unintentionally, or who are planning a pregnancy, to be knowledgeable of behaviors for preventing mosquito born and sexual transmission of Zika and recommendations for waiting to get pregnant after they or their partner have returned from an area with Zika.

The objective of this assessment is to collect scientifically valid, current information on various aspects of Zika knowledge and prevention behaviors from a representative sample of adult women of reproductive age (aged 18-49 years) in 14 states/territories, including information: (1) The use of contraception among women wishing to avoid or delay pregnancies that might otherwise be affected by Zika; (2) barriers to access and use of contraception; (3) knowledge of and adherence to mosquito prevention strategies and use of condoms to minimize the risk of sexual transmission; and (4) frequency of travel to Zika areas and knowledge of and adherence to travel recommendations. The 14 jurisdictions included have had widespread local transmission, are at high risk for local transmission, and/or have a disproportionately high number of travel-related cases.

The information collected will be provided to state and territory health departments to provide a basis on which to develop emergency response plans for potential outbreaks and make decisions regarding the distribution of finite resources to prevent Zika virus infection during pregnancy. Given the potential for new outbreaks and increases in cases in areas with Zika as the summer travel and mosquito season approaches, an interim data set and report would be made available to states no later than June, 2017. Additionally, in the event that a jurisdiction has an increase in Zika cases or newly reported local transmission, interim data will be analyzed and provided within 10 business days to aid in emergency response planning.

Participation is voluntary and there are no costs to respondents other than their time.

Estimated Annualized Burden Hours
Type of respondents | Form name | Number of respondents | Number of responses per respondent | Average burden per response (in hrs.) | Total burden hours
Women aged 18-49 years who completed the main BRFSS survey | Recruitment text | 14,508 | 1 | 1/60 | 242
Women aged 18-49 years from areas with local Zika transmission | Call-back Survey and Consent, Version A | 2,000 | 1 | 10/60 | 333
Women aged 18-49 years from areas where travel related Zika predominates | Call-back Survey and Consent, Version B | 12,000 | 1 | 12/60 | 2,400
State BRFSS Coordinators | Data Submission Layout | 14 | 8 | 3 | 336
Total |  |  |  |  | 3,311

Leroy A. Richardson,
Chief, Information Collection Review Office, Office of Scientific Integrity, Office of the Associate Director for Science, Office of the Director, Centers for Disease Control and Prevention.

[FR Doc. 2017-08493 Filed 4-26-17; 8:45 am]

BILLING CODE 4163-18-P